DEPARTMENT OF AGRICULTURE

Animal and Plant Health Inspection Service

[Docket No. 02-061-1]

Notice of Request for Approval of an Information Collection

AGENCY: Animal and Plant Health Inspection Service, USDA.

ACTION: New information collection; comment request.

SUMMARY: In accordance with the Paperwork Reduction Act of 1995, this notice announces the Animal and Plant Health Inspection Service's intention to initiate a new information collection activity to support the Safeguarding System Definition Project.

DATES: We will consider all comments that we receive on or before August 12, 2002.

ADDRESSES: You may submit comments by postal mail/commercial delivery or by e-mail. If you use postal mail/commercial delivery, please send four copies of your comment (an original and three copies) to: Docket No. 02-061-1, Regulatory Analysis and Development, PPD, APHIS, Station 3C71, 4700 River Road Unit 118, Riverdale, MD 20737-1238. Please state that your comment refers to Docket No. 02-061-1. If you use e-mail, address your comment to regulations@aphis.usda.gov. Your comment must be contained in the body of your message; do not send attached files. Please include your name and address in your message and “Docket No. 02-061-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the Safeguarding System Definition Project, contact Ms. Beth Jones, Assistant Director, LPA, APHIS, 4700 River Road Unit 51, Riverdale, MD 20737-1231; (301) 734-7799. For copies of more detailed information on the information collection, contact Mrs. Celeste Sickles, APHIS' Information Collection Coordinator, at (301) 734-7477.

SUPPLEMENTARY INFORMATION: Title: Safeguarding System Definition Project.

OMB Number: 0579-XXXX.

Type of Request: Approval of a new information collection.

Abstract: The Animal and Plant Health Inspection Service (APHIS) of the United States Department of Agriculture is responsible for, among other things, preventing plant pests and serious communicable animal diseases from entering the United States. To accomplish this mission, APHIS employs a comprehensive safeguarding system that includes elements such as inspections, quarantines, treatments, regulations, surveillance, emergency response, monitoring, trade agreements, and risk assessments.

The public, including international travelers, importers and exporters, members of the transportation and agricultural production industries, and persons with domestic agricultural interests, are key to the effectiveness of our national safeguarding system. Therefore, APHIS informs the public about invasive plant pests and animal diseases of concern and the safeguarding activities we use to protect American agriculture. To improve our communication of these issues and the effectiveness of our national safeguarding system, we are initiating the Safeguarding System Definition Project, which is intended to help us better understand what the public knows about our activities, what they would like to know, and how to best communicate that information. Conducting this project will necessitate the use of information collection activities, including interviews, surveys, and external focus groups.

We are asking the Office of Management and Budget (OMB) to approve the information collection activities for the Safeguarding System Definition Project.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.17857 hours per response.

Respondents: International travelers, importers and exporters, members of the transportation and agricultural production industries, and persons with domestic agricultural interests.

Estimated annual number of respondents: 168.

Estimated annual number of responses per respondent: 1.

Estimated annual number of responses: 168.

Estimated total annual burden on respondents: 198 hours. (Due to averaging, the total annual burden hours may not equal the product of the annual number of responses multiplied by the reporting burden per response.)

All responses to this notice will be summarized and included in the request for OMB approval. All comments will also become a matter of public record.

Done in Washington, DC, this 6th day of June, 2002.
Peter Fernandez,
Acting Administrator, Animal and Plant Health Inspection Service.

[FR Doc. 02-14738 Filed 6-11-02; 8:45 am]

BILLING CODE 3410-34-P